DEPARTMENT OF AGRICULTURE

Forest Service

Lassen National Forest, California, Willow Forest Recovery Project

AGENCY: Forest Service, USDA.

ACTION: Cancellation of Notice of Intent.

SUMMARY: This notice cancels the Notice of Intent to prepare an Environmental Impact Statement for the Willow Forest Recovery Project on the Lassen National Forest, published in the Federal Register on May 23, 2006, (Volume 71, Number 99, page 29612).

ADDRESSES: Almanor District Ranger, Lassen National Forest, P.O. Box 767, Chester, CA 96020.

FOR FURTHER INFORMATION CONTACT: Matt Cerney, Interdisciplinary Team Leader may be contacted by phone at (530) 258-2141.

SUPPLEMENTARY INFORMATION: A Notice of Intent to prepare an Environmental Impact Statement for the Willow Forest Recovery Project is canceled due to changes in the Forest's priorities.

Dated: March 1, 2007.
Laurie Tippin,
Forest Supervisor.

[FR Doc. 07-1457 Filed 3-23-07; 8:45 am]

BILLING CODE 5410-99-M